DEPARTMENT OF COMMERCE

Patent and Trademark Office

Docket No. PTO-C-2022-0004]

National Medal of Technology and Innovation Nomination Evaluation Committee Charter Renewal

AGENCY: United States Patent and Trademark Office, Commerce.

ACTION: Notice.

SUMMARY: The Acting Chief Financial Officer/Assistant Secretary of Commerce for Administration, with the concurrence of the General Services Administration, renewed the Charter for the National Medal of Technology and Innovation Nomination Evaluation Committee (NMTI Committee) on February 9, 2022.

DATES: The Charter for the NMTI Committee was renewed on February 9, 2022.

FOR FURTHER INFORMATION CONTACT: Linda Hosler, Program Manager, National Medal of Technology and Innovation Program, United States Patent and Trademark Office, 600 Dulany Street, Alexandria, VA 22314; 571-272-8514; or nmti@uspto.gov. Information is also available at www.uspto.gov/nmti.

SUPPLEMENTARY INFORMATION: The Acting Chief Financial Officer/Assistant Secretary of Commerce for Administration, with the concurrence of the General Services Administration, renewed the Charter for the NMTI Committee on February 9, 2022. The renewed Charter expires on February 9, 2024. The NMTI Committee members are distinguished experts from the private and public sectors with experience in and an understanding of technology and technological innovation. The NMTI Committee was established in accordance with the Federal Advisory Committee Act and provides advice to the Secretary of Commerce regarding recommendations of nominees for the National Medal of Technology and Innovation (Medal). The duties of the NMTI Committee are solely advisory in nature. Nominations for this Medal are solicited through an open, competitive, and nationwide call, and the NMTI Committee members are responsible for reviewing the nominations received. The NMTI Committee evaluates the nominees and forwards its recommendations through the Under Secretary of Commerce for Intellectual Property and Director of the United States Patent and Trademark Office to the Secretary of Commerce, who, in turn, forwards her recommendations for the Medal to the President.

Andrew Hirshfeld,
Commissioner for Patents, Performing the Functions and Duties of the Under Secretary of Commerce for Intellectual Property and Director of the United States Patent and Trademark Office.

[FR Doc. 2022-03443 Filed 2-16-22; 8:45 am]

BILLING CODE 3510-16-P